DEPARTMENT OF THE INTERIOR

Bureau of Land Management

[AZ-050-00-1430-EU; AZA 29964, AZA 29970-AZA 29975, AZA 29977, AZA 29979-AZA 29983, AZA 29985-AZA 29989]

Arizona: Notice of Realty Action; Competitive Sale of Public Land in Quartzsite, La Paz County, AZ

AGENCY: Bureau of Land Management, Interior.

ACTION: Extension of time notice; Correction.

SUMMARY: The Bureau of Land Management published an extension of time to complete a public land competitive sale in the Federal Register on October 15, 1999. The legal description inadvertently omitted parcels available for sale, and two case file numbers were omitted from the above description.

FOR FURTHER INFORMATION CONTACT: Debbie DeBock, Realty Specialist at (520) 317-3208.

Correction:

In the Federal Register dated October 15, 1999 (64FR55956), insert the following legal descriptions:

T. 4 N., R. 19 W.,

Sec. 22, NE¼NE¼SE¼;

Sec. 23, N½SW¼, S½ NE¼SW¼W¼, NW¼SW¼, N½SW¼SW¼,N½SE¼SW¼,SW¼ SE¼W¼;

Sec. 29, W½NE¼NE¼ NE¼, W½NW¼NE¼NE¼, NW¼NE¼, W½NE¼NW¼, SE¼NE¼ NW¼,NW¼NW¼.

Aggregating 225.00 acres, more or less.

The following describes the corrected case file number error: AZA 29964, AZA 29970-AZA 29975, AZA 29977, AZA 29979-AZA 29983, AZA 29985-AZA 29989.

Dated: March 8, 2000.
Gail Acheson,
Field Manager.

[FR Doc. 00-6530 Filed 3-15-00; 8:45 am]

BILLING CODE 4310-32-M